NUCLEAR WASTE TECHNICAL REVIEW BOARD

Board Meeting: U.S. Nuclear Waste Technical Review Board

October 29, 2014—The U.S. Nuclear Waste Technical Review Board will meet to discuss issues related to management of DOE spent nuclear fuel and high-level radioactive waste at SRS.

Pursuant to its authority under section 5051 of Public Law 100-203, Nuclear Waste Policy Amendments Act of 1987, the U.S. Nuclear Waste Technical Review Board will meet in Augusta, Georgia, on Wednesday, October 29, 2014, to review U.S. Department of Energy (DOE) activities related to managing DOE spent nuclear fuel (SNF) and high-level radioactive waste (HLW). Among the topics that will be discussed at the meeting is work underway at the Savannah River Site (SRS) in South Carolina related to storage and processing of DOE SNF and vitrification and storage of HLW at the SRS. The Nuclear Waste Policy Amendments Act (NWPAA) of 1987 charges the Board with conducting an ongoing and independent evaluation of the technical and scientific validity of DOE activities related to implementing the Nuclear Waste Policy Act of 1982.

The meeting will be held at the Marriott Hotel, Two Tenth Street, Augusta, Georgia 30901; Telephone 706-722-8900, Fax 706-724-0044. A block of rooms has been reserved for meeting attendees at the special rate of $91.00 per night. Reservations may be made by phone: 800-228-9290 or online: http://www.marriott.com/meeting-event-hotels/group-corporate-travel/groupCorp.mi?resLinkData=US%20Nuclear%20Waste%5Eagsmc%60usausaa%6091%60USD%60false%6010/27/14%6010/30/14%6010/6/14&app=resvlink&stop_mobi=yes>. Reservations must be made by October 10, 2014, to ensure receiving the meeting rate.

The meeting will begin at 8 a.m. on Wednesday, October 29, 2014, with a call to order and introductory statement by the Board Chairman and is scheduled to adjourn at 5:20 p.m. Topics that will be discussed at the meeting include issues related to storage of DOE SNF at the L Basin at SRS, alternatives for dry storage of DOE SNF at SRS, processing of DOE SNF, and issues related to aging of the facilities involved in these operations. The Board will also discuss vitrification of HLW and the storage of the vitrified waste, including production rates for HLW canisters and plans for a new vitrified waste storage facility.

A detailed meeting agenda will be available on the Board's Web site: www.nwtrb.gov approximately one week before the meeting. The agenda may also be requested by email or telephone at that time from Davonya Barnes of the Board's staff.

The meeting will be open to the public, and an opportunity for public comment will be provided at the end of the day. Those wanting to speak are encouraged to sign the “Public Comment Register” at the check-in table. Depending on the number of people who wish to speak, it may be necessary to set a time limit on individual remarks, but written comments of any length may be submitted for the record.

Transcripts of the meeting will be available on the Board's Web site no later than November 19, 2014. Copies may be requested for transmission by email, on computer disk, or in paper format from Davonya Barnes, at that time.

The Board was established in the NWPAA as an independent federal agency in the Executive Branch to review the technical and scientific validity of DOE activities related to implementing the NWPA and to provide objective expert advice to Congress and the Secretary of Energy on technical and scientific issues related to SNF and HLW management and disposal. Board members are experts in their fields and are appointed to the Board by the President from a list of candidates submitted by the National Academy of Sciences. The Board reports its findings, conclusions, and recommendations to Congress and the Secretary of Energy. All Board reports, correspondence, congressional testimony, and meeting transcripts and related materials are posted on the Board's Web site.

For information on the meeting agenda, contact Daniel Ogg: ogg@nwtrb.gov or Karyn Severson: severson@nwtrb.gov. For information on lodging or logistics, contact Linda Coultry: coultry@nwtrb.gov. To request copies of the meeting agenda or the transcript, contact Davonya Barnes: bames@nwtrb.gov. All four can be reached by mail at 2300 Clarendon Boulevard, Suite 1300; Arlington, VA 22201-3367; by telephone at 703-235-4473; or by fax at 703-235-4495.

Dated: September 15, 2014.
Nigel Mote,
Executive Director, U.S. Nuclear Waste Technical Review Board.

[FR Doc. 2014-22300 Filed 9-18-14; 8:45 am]

BILLING CODE P